PEACE CORPS

Office of Volunteer Recruitment and Selection; Information Collection Requests Under OMB Review; OMB Number: 0420-0001

AGENCY: Peace Corps.

ACTION: Notice of public use of form review request to the Office of Management and Budget.

SUMMARY: The Associate Director for Management invites comments on information collection requests as required pursuant to the Paperwork Reduction Act (44 U.S.C. chapter 35). This notice announces that the Peace Corps has submitted to the Office of Management and Budget a request to approve the continued use of the National Agency Check Questionnaire for Peace Corps Volunteers Background Investigation. Section 22 of the Peace Corps Act (22 U.S.C. 2501 et seq.) mandates that “all persons employed or assigned to duties under the Act shall be investigated to ensure employment or assignment is consistent with national interest in accordance with standards and procedures established by the President.”

DATES: The Peace Corps invites comments on or before July 10, 2000.

ADDRESSES: A copy of the information collection may be obtained from Paul Davis, Manager Placement Unit, Peace Corps, 1111 20th Street NW., Washington, DC 20526. Mr. Davis may be contacted by telephone at (202) 692-1836. Comments on these forms should be addressed to Mr. David Rostker, Desk Officer, Office of Management and Budget, NEOB, Washington, DC 20523.

Dated: June 1, 2000.
Michael J. Kole,
Director of Administrative Services and Certifying Official.

[FR Doc. 00-14458 Filed 6-5-00; 1:18 pm]

BILLING CODE 6051-01-M